INTERNATIONAL TRADE COMMISSION

[Investigation No. 731-TA-1296 (Final)]

Hot-Rolled Steel Flat Products From Turkey; Request for Comments Regarding the Institution of a Section 751(b) Review Concerning the Commission's Affirmative Determination

AGENCY: United States International Trade Commission.

ACTION: Notice.

SUMMARY: The Commission invites comments from the public on whether changed circumstances exist sufficient to warrant the institution of a review pursuant to the Tariff Act of 1930 (the Act) regarding the Commission's affirmative determination in investigation No. 731-TA-1296 (Final). The purpose of the proposed review is to determine whether revocation of the existing antidumping duty order on imports of hot-rolled steel flat products from Turkey is likely to lead to continuation or recurrence of material injury. The Commission further requests comments concerning the degree to which such a proceeding can be conducted in conjunction with the pending five-year review of the antidumping duty order on the same subject merchandise.

DATES: December 2, 2021.

FOR FURTHER INFORMATION CONTACT: Douglas Corkran (202-205-3057), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS) at http://edis.usitc.gov.

SUPPLEMENTARY INFORMATION: Background.—In September 2016, the Commission determined that a U.S. industry was materially injured by reason of imports of hot-rolled steel flat products from Turkey found by the U.S. Department of Commerce (Commerce) to be sold in the United States at less than fair value (81 FR 66996, Sept. 29, 2016).

On September 10, 2021, the Commission received a request to review its affirmative determination in investigation No. 731-TA-1296 (Final) pursuant to section 751(b) of the Act (19 U.S.C. 1675(b)). The request, filed by Eregli Demir ve Celik Fabrikalari T.A.S. (Erdemir), alleges there have been significant changed circumstances since the issuance of the Commission's 2016 determination. Specifically, Erdemir alleges that Commerce's recalculation of Colakoglu's antidumping duty margin to zero percent and its exclusion from the antidumping duty order as a result of judicial review constitute significantly changed circumstances from those in existence at the time of the original investigation because the facts underlying the Commission's negligibility determination completely changed. According to Erdemir, the exclusion of Colakoglu from the antidumping duty order places this case in pari materia with the injury case in the countervailing duty investigation and provides a compelling basis to find that imports from Turkey subject to the antidumping duty investigation are negligible.

Written comments requested.—Pursuant to section 207.45(b) of the Commission's Rules of Practice and Procedure, the Commission requests comments concerning whether the alleged changed circumstances, brought about by the aforementioned changes in the imports of hot-rolled steel flat products from Turkey subject to an antidumping duty order, are sufficient to warrant institution of a review.

The Commission further requests comments concerning the degree to which any changed circumstances proceeding concerning hot-rolled steel flat products from Turkey can be conducted in conjunction with the five-year review of the antidumping duty order on the same subject merchandise that Commerce has initiated and the Commission has instituted on September 1, 2021 (86 FR 49057). If the Commission initiates a changed circumstances review, the review is likely to be conducted on an overlapping basis with the five-year review concerning hot-rolled steel flat products from Turkey. Therefore, commenters are encouraged to address the nature of the respective inquiries, the data and other information necessary for the Commission's evaluation, and procedural considerations for the effective conduct of the reviews.

Written submissions.—Comments must be filed with the Secretary to the Commission by no later than 30 days after publication of this notice or by [XXX]. All written submissions must conform with the provisions of § 201.8 of the Commission's rules; any submissions that contain BPI must also conform with the requirements of §§ 201.6, 207.3, and 207.7 of the Commission's rules. The Commission's Handbook on Filing Procedures, available on the Commission's website at https://www.usitc.gov/documents/handbook_on_filing_procedures.pdf, elaborates upon the Commission's procedures with respect to filings.

Please note the Secretary's Office will accept only electronic filings at this time. Filings must be made through the Commission's Electronic Document Information System (EDIS, https://edis.usitc.gov). No in-person paper-based filings or paper copies of any electronic filings will be accepted until further notice.

Authority: This notice is published pursuant to section 207.45 of the Commission's rules.

By order of the Commission.
Issued: November 29, 2021.
William Bishop,
Supervisory Hearings and Information Officer.

[FR Doc. 2021-26222 Filed 12-1-21; 8:45 am]

BILLING CODE 7020-02-P